DEPARTMENT OF THE INTERIOR

National Park Service

[NPS-WASO-NAGPRA-NPS0040430; PPWOCRADN0-PCU00RP14.R50000]

Notice of Inventory Completion: University of Colorado Denver, Denver, CO

AGENCY: National Park Service, Interior.

ACTION: Notice.

SUMMARY: In accordance with the Native American Graves Protection and Repatriation Act (NAGPRA), University of Colorado Denver (CU Denver) has completed an inventory of human remains and has determined that there is a cultural affiliation between the human remains and Indian Tribes or Native Hawaiian organizations in this notice.

DATES: Repatriation of the human remains in this notice may occur on or after July 28, 2025.

ADDRESSES: Send written requests for repatriation of the human remains and associated funerary objects in this notice to Christopher S. Beekman, CU Denver, Campus Box 103, P.O. Box 173364, Denver, CO 80217-3364, email Christopher.beekman@ucdenver.edu.

SUPPLEMENTARY INFORMATION: This notice is published as part of the National Park Service's administrative responsibilities under NAGPRA. The determinations in this notice are the sole responsibility of CU Denver, and additional information on the determinations in this notice, including the results of consultation, can be found in its inventory or related records. The National Park Service is not responsible for the determinations in this notice.

Abstract of Information Available

Human remains representing, at least, four individuals have been identified. No associated funerary objects are present. The collection consists of 40 bones representing at least four individuals. More than half of these are cranial bones. The origin of the collection is unknown apart from a note stating that it probably came from Eastern Colorado. We have not noted any hazardous material used to treat the bones.

Cultural Affiliation

Based on the information available and the results of consultation, cultural affiliation is reasonably identified by the geographical location of the human remains described in this notice.

Determinations

CU Denver has determined that:

• The human remains described in this notice represent the physical remains of at least four individuals of Native American ancestry.

• There is a connection between the human remains described in this notice and the Apache Tribe of Oklahoma; Cheyenne and Arapaho Tribes, Oklahoma; Comanche Nation, Oklahoma; Eastern Shoshone Tribe of the Wind River Reservation, Wyoming; Fort Belknap Indian Community of the Fort Belknap Reservation of Montana; Jicarilla Apache Nation, New Mexico; Navajo Nation, Arizona, New Mexico, & Utah; Northern Arapaho Tribe of the Wind River Reservation, Wyoming; Northern Cheyenne Tribe of the Northern Cheyenne Indian Reservation, Montana; Shoshone-Bannock Tribes of the Fort Hall Reservation; Southern Ute Indian Tribe of the Southern Ute Reservation, Colorado; The Osage Nation; and the Ute Mountain Ute Tribe.

Requests for Repatriation

Written requests for repatriation of the human remains in this notice must be sent to the authorized representative identified in this notice under ADDRESSES. Requests for repatriation may be submitted by:

1. Any one or more of the Indian Tribes or Native Hawaiian organizations identified in this notice.

2. Any lineal descendant, Indian Tribe, or Native Hawaiian organization not identified in this notice who shows, by a preponderance of the evidence, that the requestor is a lineal descendant or an Indian Tribe or Native Hawaiian organization with cultural affiliation.

Repatriation of the human remains described in this notice to a requestor may occur on or after July 28, 2025. If competing requests for repatriation are received, CU Denver must determine the most appropriate requestor prior to repatriation. Requests for joint repatriation of the human remains are considered a single request and not competing requests. CU Denver is responsible for sending a copy of this notice to the Indian Tribes and Native Hawaiian organizations identified in this notice and any other consulting parties.

Authority: Native American Graves Protection and Repatriation Act, 25 U.S.C. 3003, and the implementing regulations, 43 CFR 10.10.

Dated: June 17, 2025.
Melanie O'Brien,
Manager, National NAGPRA Program.

[FR Doc. 2025-11930 Filed 6-26-25; 8:45 am]

BILLING CODE 4312-52-P